DEPARTMENT OF THE INTERIOR

National Park Service

Notice of Availability of a Finding of No Significant Impact for the Wireless Telecommunication Plan/Environmental Assessment; Rock Creek Park, Washington, DC

AGENCY: Department of the Interior, National Park Service.

ACTION: Notice of Availability of a Finding of No Significant Impact for the Wireless Telecommunication Plan and Environmental Assessment, Rock Creek Park, Washington, DC.

SUMMARY: Pursuant to the National Environmental Policy Act of 1969, 42 U.S.C. 4332(2)(C), and to 40 CFR 1501.4(e), the National Park Service (NPS) has prepared, and hereby announces the availability of a Notice of Availability of a Finding of No Significant Impact (FONSI) for the Wireless Telecommunication Plan and Environmental Assessment, Rock Creek Park, Washington, DC. The plan will provide all administered units of Rock Creek Park with a consistent framework for protecting park resources during the consideration of “right-of-way permit” applications and other inquiries submitted to the park for the construction, operation, and maintenance of wireless telecommunication facilities (WTF).

The FONSI includes a project background, a description of the relevant legal authorities impacting the Wireless Telecommunications Plan, a description of the selected alternative, a synopsis of other alternatives considered, a description of the environmentally preferable alternative, a discussion of why the selected alternative will not have a significant impact on the human environment, how it will not impair park resources or values, and a description of public involvement in the planning process. Pursuant to NPS policy, it also includes as attachments responses to public comments and errata sheets

DATES: The FONSI is dated January 29, 2009, and it is available on the Planning Environment and Public Comment (PEPC) Web site at http://www.parkplanning.nps.gov/rocr.

ADDRESSES: Copies of the FONSI can be requested in person at Rock Creek Park, 3545 Williamsburg Lane, NW., Washington, DC 20008, or by phone (202) 895-6000.

FOR FURTHER INFORMATION CONTACT: Adrienne Applewhaite-Coleman, Superintendent, Rock Creek Park: 3545 Williamsburg Lane, NW., Washington, DC 20008; (202) 895-6004; or by e-mail: Adrienne_Applewhaite-Coleman@nps.gov.

SUPPLEMENTARY INFORMATION: The FONSI summarizes one selected alternative that meets the goals of both the preferred alternative and the preferred environmental alternative for siting WTF within Rock Creek Park. The document also describes the other alternatives, but does not provide an analysis. The alternatives analysis can be found in the Wireless Telecommunication Plan and Environmental Assessment. The selected alternative outlined in the FONSI will guide the future siting, building and permitting of WTF in Rock Creek Park. The NPS decided to develop this Plan in its 2003 FONSI on the 2003 Environmental Assessment of the park's existing WTF, which resulted from litigation about those WTF.

Selected Alternative

Under the selected alternative, the park has identified areas where coverage gaps for wireless telecommunication service exist and encourages applicants to site facilities in these areas provided no conflicts with the park mission and planned uses exist. In these areas, permit terms and conditions are included to ensure protection of sensitive resources. These areas are located mainly along Beach Drive in the main unit of Rock Creek Park. If applications for WTF right-of-way permits are received for outside the area identified as having a coverage gap, the selected alternative identifies zones or areas of the park where WTF may not be allowed, and identifies zones or areas where they may be considered an appropriate use. In the potential locations, applications to construct and operate WTF would also be subject to permit terms and conditions specific to that area or zone. Consideration of WTF and permit terms and conditions will be based on the General Management Plan or the individual management document for each park unit in Rock Creek Park, as applicable, and will include elements such as the design and location requirements for a proposed facility in a particular location.

The selected alternative also includes elements identified in the Wireless Telecommunications Plan and Environmental Assessment as common to the action alternatives and in some instances to the no-action alternative as well.

These are that:

• All applications are subject to compliance with the applicable laws, regulations, policies, and guidelines outlined in “Chapter 1: Purpose of and Need for Action.”

• Co-location on the two existing monopoles will be handled as in the current permit for WTF in Rock Creek Park.

• Areas that lack in-car coverage are considered to have a coverage gap.

• All associated cables for WTF (electrical, telephone, and fiber optic) cannot be above ground.

• No fencing is permitted around WTF and their associated structures.

• Applications must include an analysis of locations outside the park that could provide similar levels of service, if available.

• Only WTF using the newest technology will be considered, following the intent of all applicable authorities to facilitate the build out of new WTF service, and conforming to the NPS Management Policies 2006 direction to require the “best technology available.”

• WTF will not be considered in certain areas of the park because of desired conditions stated in the park's General Management Plan and other applicable management documents, which is provided for by the applicable authorities.

• Applicants are required to conform to the physical requirements for WTF facilities, such as height and lighting, directed by applicable authorities.

Finally, as a result of a recent suggestion by U.S. Fish and Wildlife Service for future study on the effects of WTF radiation on birds, a topic upon which there is no U.S. field data, the National Park Service will seek funding and work with U.S. Fish and Wildlife Service to develop such a study, the results of which will be considered when available.

Other Alternatives Considered

The Wireless Telecommunications Plan/Environmental Assessment evaluated two other alternatives:

Alternative A—No-Action Alternative: Under the No-Action alternative, right-of-way permit applications for WTF within any unit of Rock Creek Park would continue to be evaluated by the National Park Service in accordance with applicable authorities and RM-53. Requests for WTF siting in all areas of the park would be reviewed in the context of the General Management Plan or the individual management document for each park unit within Rock Creek Park to determine if WTF siting would be acceptable in the requested area of the park. WTF applications would continue to be considered without a more structured process or plan for the evaluation of such requests than is currently in place. This alternative was not selected because it fails to provide a foundation for decision-making regarding the issuance of right-of-way permits, fails to establish criteria or identify areas where WTF would or would not be appropriate and fails to identify conditions under which WTF would be permitted.

Alternative B—Zone Management: Under Alternative B applications would be reviewed and evaluated for WTF following RM-53, as described under the no-action alternative. Alternative B would add additional considerations to the process by identifying zones or areas of the park where WTF may not be allowed or where they would be considered an appropriate use based on the General Management Plan or the management documents for each park unit within Rock Creek Park. These permit terms and conditions are shown in Table 1, and are also included in the selected alternative, Alternative C. In areas where a WTF may be considered appropriate, applications for a right-of-way permit to construct and operate a WTF could be sited and would be subject to certain permit terms and conditions specific to the area or zone proposed for the facility. This alternative was not selected because it does not best address how in-car coverage gaps will be addressed.

Both of these alternatives would result in a less efficient use of National Park Service time and staff than the selected alternative.

Dated: April 22, 2009.
Margaret O'Dell.
Regional Director, National Capital Region.

[FR Doc. E9-11376 Filed 5-14-09; 8:45 am]

BILLING CODE 4312-34-P